DEPARTMENT OF ENERGY

Federal Energy Regulatory Commission

[TS04-76-001, et al.]

Notice of Filing; American Transmission Company, et al.

August 2, 2004.

Equitrans, LP [TS04-270-000]

Granite State Gas Transmission, Inc. [TS04-150-000]

High Island Offshore System [TS04-262-000]

Kinder Morgan Pipelines [TS04-271-000]

Kinder Morgan Pipelines [TS04-272-000]

Northern Border Pipeline Company [TS04-208-000]

Midwestern Gas Transmission Company [TS04-209-000]

Petal Gas Storage LLC [TS04-263-000]

Shell Offshore, Inc. and Shell Gulf of Mexico, Inc. [TS04-273-000]

Shell Gas Transmission LLC [TS04-274-000]

Venice Gathering System, LLC [TS04-164-000]

Viking Gas Transmission Company [TS04-212-000]

The above-referenced Transmission Providers¹ have filed motions requesting a full or partial waiver or exemption from the requirements of Order No. 2004. FERC Stats. & Regs. ¶ 31,355 (2003). Interested parties may file a petition to intervene in each individual docket.

Any person desiring to intervene or to protest each filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene in each individual proceeding. All such motions or protests should be filed on or before the comment date, and, to the extent applicable, must be served on the applicant and on any other person designated on the official service list. These filings are available for review at the Commission or may be viewed on the Commission's Web site at http://www.ferc.gov, using the eLibrary (FERRIS) link. Enter the docket number excluding the last three digits in the docket number field to access the document. For assistance, please contact FERC Online Support at FERCOnlineSupport@ferc.gov or toll-free at (866) 208-3676, or for TTY, contact (202) 502-8659. Protests and interventions may be filed electronically via the Internet in lieu of paper; see 18 CFR 385.2001(a)(1)(iii) and the instructions on the Commission's Web site under the “e-Filing” link. The Commission strongly encourages electronic filings.

¹ Northern Border Pipeline Company, Midwestern Gas Transmission Company and Viking Gas Transmission filed on February 9, 2004, respectively. The other Transmission Providers listed in the caption filed between June 17 and July 27, 2004.

Comment Date: August 17, 2004.

Magalie R. Salas,
Secretary.

[FR Doc. E4-2049 Filed 9-2-04; 8:45 am]

BILLING CODE 6717-01-P